DEPARTMENT OF DEFENSE

Office of the Secretary

[Docket ID: DoD-2015-OS-0114]

Proposed Collection; Comment Request

AGENCY: Defense Security Cooperation Agency, DoD.

ACTION: Notice.

SUMMARY: In compliance with the Paperwork Reduction Act of 1995, the Defense Security Cooperation Agency announces a proposed public information collection and seeks public comment on the provisions thereof. Comments are invited on: (a) Whether the proposed collection of information is necessary for the proper performance of the functions of the agency, including whether the information shall have a practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 29, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for reviewing/testing. Follow the instructions at http://www.regulations.gov for submitting comments. Please submit comments on any given form identified by docket number, form number, and title.

FOR FURTHER INFORMATION CONTACT: To request more information on this proposed information collection or to obtain a copy of the proposal and associated collection instruments, please write to: The Defense Security Cooperation Agency (DSCA) (ATTN: Paul Will), 220 12th Street South, Suite 312, Arlington, VA 22202-5408 or call (703) 601-3864.

SUPPLEMENTARY INFORMATION:

Title; Associated Form; and OMB Number: The GlobalNET Collection; GlobalNET User Registration Form; OMB Control No. 0704-XXXX.

Needs and Uses: The purpose of the GlobalNET system is to provide a collaborative social networking environment/capability where students, alumni, faculty, partners, and other community members and subject matter experts can find relevant and timely information about pertinent subject matter experts and conduct required training. GlobalNET also collects information on students in order to allow regional center personnel to manage students while enrolled at regional centers.

Affected Public: Businesses or other for profit; Foreign Service Nationals; Guest Speakers and Lecturers involved in Security Cooperation Activities.

Annual Burden Hours: 1,000 hours.

Number of Respondents: 6,000.

Responses per Respondent: 1.

Average Burden per Response: 10 Minutes.

Frequency: On occasion.

Respondents are contractor personnel, Foreign Service nationals, guest speakers and lecturers involved in the Security Cooperation. If the information is not collected on the GlobalNET user request, IT personnel would not be able to validate the authenticity of user accounts, grant access critical training material required by participating partnering organization, enable Regional Center personnel to manage students while enrolled in training courses at regional centers, and ensure compliance with DepSecDef directive and federal law requiring the reporting of training of foreign nationals (ref. AECA).

Dated: October 27, 2015.
Aaron Siegel,
Alternate OSD Federal Register Liaison Officer, Department of Defense.

[FR Doc. 2015-27712 Filed 10-29-15; 8:45 am]

BILLING CODE 5001-06-P